SMALL BUSINESS ADMINISTRATION

[Declaration of Disaster #3604]

Territory of Guam

The Territory of Guam constitutes a disaster area as a result of damages caused by Tropical Storm Tingting that occurred on June 26 and continued through June 29, 2004. The storm caused structural damages throughout the Island of Guam from wind, flooding and mudslides. Applications for loans for physical damage as a result of this disaster may be filed until the close of business on October 1, 2004, and for economic injury until the close of business on May 2, 2005, at the address listed below or other locally announced locations: Small Business Administration, Disaster Area 4 Office, P. O. Box 419004, Sacramento, CA 95841-9004.

The interest rates are:

| Percent
For Physical Damage:
Homeowners with credit available elsewhere | 5.750
Homeowners without credit available elsewhere | 2.875
Businesses with credit available elsewhere | 5.500
Businesses and non-profit organizations without credit available elsewhere | 2.750
Others (including non-profit organizations) with credit available elsewhere | 4.875
For Economic Injury:
Businesses and small agricultural cooperatives without credit available elsewhere | 2.750

The number assigned to this disaster for physical damage is 360406 and for economic damage is 9ZN500.

(Catalog of Federal Domestic Assistance Program Nos. 59002 and 59008.)
Dated: August 2, 2004.
Hector V. Barreto,
Administrator.

[FR Doc. 04-18097 Filed 8-6-04; 8:45 am]

BILLING CODE 8025-01-P